DEPARTMENT OF AGRICULTURE

Rural Utilities Service

7 CFR Part 1735

RIN 0572-AC13

General Policies, Types of Loans, Loan Requirements—Telecommunications

AGENCY: Rural Utilities Service, USDA.

ACTION: Proposed rule.

SUMMARY: The Rural Utilities Service, an agency delivering the United States Department of Agriculture (USDA) Rural Development Utilities Program, hereinafter referred to as Rural Development and/or the Agency, amends its regulations for the Telecommunications Loan Program (Loan Program). The Agency has reviewed its criteria for approving loans and has determined that modifications to the Loan Program regulations are required in order to ensure that some financially sound applicants are not excluded from the Loan Program.

Specifically, this rule will modify the Times Interest Earned Ratio (TIER) requirements that an applicant must comply with when receiving a loan. In addition, the rule is part of an ongoing Agency project to update Agency policies to enable borrowers to provide reliable, modern telecommunications service at reasonable costs in rural areas, while maintaining the security and feasibility of the Government's loans.

In the final rules section of this Federal Register, Rural Development is publishing this action as a direct final rule without prior proposal because the Agency views this as a non-controversial action and anticipates no adverse comments. If no adverse comments are received in response to the direct final rule, no further action will be taken on this proposed rule and the action will become effective at the time specified in the direct final rule. If the Agency receives adverse comments, a timely document will be published withdrawing the direct final rule and all public comments received will be addressed in a subsequent final rule based on this action.

DATES: Comments on this proposed action must be received by Rural Development or carry a postmark or equivalent no later than December 5, 2008.

ADDRESSES: Submit adverse comments by either of the following methods:

• Federal eRulemaking Portal: Go to http://www.regulations.gov and in the “Search Documents” box, enter RUS-08-Telecom-0002, and select GO>>. To submit a comment, choose “Send a comment or submission,” under the Docket Title. In order to submit your comment, the information requested on the “Public Comment and Submission Form,” must be completed. Information on using Regulations.gov, including instructions for accessing documents, submitting comments, and viewing the docket after the close of the comment period, is available through the site's “How to Use this Site” link.

• Postal Mail/Commercial Delivery: Please send your comment addressed to Michele Brooks, Director, Program Development and Regulatory Analysis, USDA Rural Development, STOP 1522, Room 5159, 1400 Independence Avenue, Washington, DC 20250-1522. Please state that your adverse comment refers to Docket No. RUS-08-Telecom-0002.

• Other Information: Additional information about Rural Development and its programs is available at http://www.rurdev.usda.gov/index.html.

FOR FURTHER INFORMATION CONTACT: Jerry H. Brent, Director, Northern Division, Telecommunications Program, USDA Rural Development, STOP 1595, 1400 Independence Avenue, SW., Washington, DC 20250-1595, Telephone (202)720-1025, Facsimile (202) 690-4654. E-mail address: jerry.brent@usda.gov

SUPPLEMENTARY INFORMATION: See the SUPPLEMENTARY INFORMATION provided in the direct final rule located in the Rules and Regulations direct final rule section of this Federal Register for the applicable SUPPLEMENTARY INFORMATION on this action.

Dated: September 8, 2008.
James M. Andrew,
Administrator, Rural Utilities Service.

[FR Doc. E8-26317 Filed 11-4-08; 8:45 am]

BILLING CODE 3410-15-P